PEACE CORPS

Information Collection Requests Under OMB Review

AGENCY: Peace Corps.

ACTION: 60-Day notice and request for comments.

SUMMARY: The Peace Corps will submit the following information collection request to the Office of Management and Budget (OMB) for approval. In compliance with the Paperwork Reduction Act of 1995 (44 USC Chapter 35), the Peace Corps invites the general public to comment on this request for approval of a new proposed information collection, Peace Corps Response Application (OMB Control Number 0420-0005). This process is conducted in accordance with 5 CFR 1320.10

DATES: Submit comments on or before September 9, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: The information collected by the Volunteer Application is used by the Peace Corps to collect essential information from individuals, including technical and language skills, and availability for Peace Corps service. The Volunteer Application is the document of record for an individual's decision to apply for Peace Corps service.

Title: Peace Corps Volunteer Application.

OMB Control Number: 0420-0005.

Type of Review: New.

Affected Public: General public.

Respondents' Obligation To Reply: Voluntary.

Burden to the Public:

(a) Estimated number of respondents—14,000;

(b) Estimated average burden—6 hours;

(c) Frequency of response—one time;

(d) Annual reporting burden—84,000 hours; and

(e) Estimated annual cost to respondents—$0.00

General Description of Collection: The Volunteer Application is used by Peace Corps in its assessment of an individual's qualifications to serve as a Peace Corps Volunteer including practical and cross-cultural experience, maturity, and motivation and commitment.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on July 5, 2011.
Earl W. Yates,
Associate Director, Management.

[FR Doc. 2011-17273 Filed 7-8-11; 8:45 am]

BILLING CODE 6051-01-P